DEPARTMENT OF COMMERCE

National Institute of Standards and Technology

Announcement of Meeting of National Conference on Weights and Measures

AGENCY: National Institute of Standards and Technology.

ACTION: Notice of meeting.

SUMMARY: Notice is hereby given that the Annual Meeting of the National Conference on Weights and Measures will be held January 14 through January 17, 2001, at the Hilton Mesa Pavilion, Mesa, Arizona. The meeting is open to the public.

The National Conference on Weights and Measures is an organization of weights and measures enforcement officials of the States, counties, and cities of the United States, and private sector representatives. The interim meeting of the conference, as well as the annual meeting to be held next July (a notice will be published in the Federal Register prior to such meeting), brings together enforcement officials, other government officials, and representatives of business, industry, trade associations, and consumer organizations to discuss subjects that relate to the field of weights and measures technology and administration.

Pursuant to (15 U.S.C. 272B), the National Institute of Standards and Technology supports the National Conference on Weights and Measures in order to promote uniformity among the States in the complex of laws, regulations, methods, and testing equipment that composes regulatory control by the States of commercial weighing and measuring.

DATES: The meeting will be held January 14-January 17, 2001.

LOCATION OF MEETING: Hilton Mesa Pavilion, Mesa, Arizona.

FOR FURTHER INFORMATION CONTACT: Henry V. Oppermann, Chief, NIST Office of Weights and Measures, 100 Bureau Drive, Stop 2350, Gaithersburg, Maryland 20899-2350. Telephone: (301) 975-5507, or E-mail: owm@nist.gov.

Dated: November 16, 2000.
Karen H. Brown,
Deputy Director, NIST.

[FR Doc. 00-30038 Filed 11-22-00; 8:45 am]

BILLING CODE 3510-13-M